DEPARTMENT OF HEALTH AND HUMAN SERVICES

Food and Drug Administration

21 CFR Part 573

Food Additives Permitted in Feed and Drinking Water of Animals

CFR Correction

In title 21 of the Code of Federal Regulations, parts 500 to 599, revised as of April 1, 2008, on pages 551 and 552, in § 573.640, in paragraphs (b)(4)(i) and (b)(4)(ii), before the words “at the National Archives and Records Administration (NARA)”, insert the words “available for inspection”.

[FR Doc. E8-30840 Filed 12-23-08; 8:45 am]

BILLING CODE 1505-01-D